ENVIRONMENTAL PROTECTION AGENCY

[FRL-7410-5]

Notice of Availability of Enforcement and Compliance History Online Web Site for 60-Day Comment Period

AGENCY: Environmental Protection Agency (EPA).

ACTION: Notice of information availability and request for comments.

SUMMARY: The Office of Compliance (OC), within EPA's Office of Enforcement and Compliance Assurance (OECA), announces the availability of and invites comments on its new Web site, Enforcement and Compliance History Online (ECHO), which contains searchable, facility-level enforcement and compliance information.

DATES: Comments must be submitted no later than January 21, 2003.

ADDRESSES: The Web site is available at http://www.epa.gov/echo. Comments may be submitted to echo@epa.gov as a Word or WordPerfect file or mailed to Rebecca Kane, Environmental Protection Agency, Office of Enforcement and Compliance Assurance, MC 2222A, 1200 Pennsylvania Avenue NW., Washington, DC 20460. Specific data errors should be submitted using the error correction process on the ECHO site.

FOR FURTHER INFORMATION CONTACT: Rebecca Kane at kane.rebecca@epa.gov or (202) 564-5960.

SUPPLEMENTARY INFORMATION:

I. ECHO Background

EPA is committed to public access to environmental information and has worked to develop a format for providing Internet access to facility-level compliance and enforcement information contained in core EPA data systems. Though the data included within ECHO previously were available to the public primarily through Freedom of Information Act requests, the information was not available in a searchable Web format. This new e-government initiative makes it much easier for the public to obtain these data records on the Internet.

EPA has worked with State governments to develop the content of the site and ensure accurate data and has pilot tested Internet access. A Joint EPA-State Enforcement and Compliance Public Access Workgroup developed the template for the type, sources, and amount of data to be included within ECHO. This workgroup, developed in partnership with the Environmental Council of the States (ECOS), made its recommendations in June 2000. EPA has field tested the approach and the data through: the Sector Facility Indexing Project (http://www.epa.gov/sfipmtn1/), which shows data for a limited number of industrial sectors, and a four-State pilot in the Pacific Northwest (http://www.epa.gov/idea/region10). Public feedback and lessons learned from these projects contributed to the development of the ECHO site.

To prepare for launch of ECHO, EPA and the States conducted a comprehensive data review to ensure high quality information. ECHO also includes on the site an online error reporting process that allows users to alert EPA and the States to possible errors. This notice announces a 60-day comment period, which is being provided to give interested parties, particularly those responsible for facilities included within the database, the opportunity to review ECHO's content, design, and accuracy of data.

II. ECHO Data

ECHO provides integrated compliance and enforcement information for approximately 800,000 regulated facilities nationwide. The site allows users to find facility-level inspection, violation, enforcement action, and penalty information for the past two years. Facilities regulated under the Clean Air Act (CAA) Stationary Source Program, Clean Water Act (CWA) National Pollutant Elimination Discharge System (NPDES), and Resource Conservation and Recovery Act (RCRA) are included. ECHO reports provide a snapshot of a facility's environmental record, showing dates and types of violations, as well as the State or Federal government's response. ECHO reports also contain demographic information from the National Census.

Data included are drawn from the Aerometric Information Retrieval System (AIRS) Facility Subsystem (AFS), Permit Compliance System (PCS), Resource Conservation and Recovery Act Information System (RCRAInfo), and, for Federal enforcement actions, the Integrated Compliance Information System (ICIS), as well as Facility Registry System (FRS) and U.S. Census data. EPA, State, and local environmental agencies and the facilities collect/report the data that are submitted to these Agency databases.

III. Specific Questions for Consideration

EPA is soliciting comments on the usability of the site as well as the accuracy of the data. EPA is specifically asking for responses to the following questions:

(1) Does the site provide meaningful and useful information about the compliance and enforcement program?

(2) Is the site easy to navigate?

(3) Does the help text adequately explain the data?

(4) What additional features, content, and/or modifications would improve the site?

(5) For members of the regulated community:

A. Were your facility reports accurate?

B. If you did need to submit an online error report, was the error reporting process easy to use?

Please note that comments are requested for the project in general; specific data errors should be reported through the error correction process on ECHO. (This feature is on every facility report—click on the red button on the top right of the page.) Also, please include question numbers in responses.

IV. Response to Comments

EPA will analyze comments received and will use these to guide any modifications to this site.

Dated: November 13, 2002.
Michael M. Stahl,
Director, Office of Compliance.

[FR Doc. 02-29471 Filed 11-19-02; 8:45 am]

BILLING CODE 6560-50-P